DEPARTMENT OF COMMERCE

National Oceanic and Atmospheric Administration

Sunsetting of Raster Nautical Charts

AGENCY: Office of Coast Survey, National Ocean Service, National Oceanic and Atmospheric Administration (NOAA), Department of Commerce.

ACTION: Notice; request for comments.

SUMMARY: NOAA is undertaking a five-year program to end all raster and paper nautical chart production. Ultimately, production of all NOAA paper nautical charts, raster navigational charts (NOAA RNC®), and related products, such as BookletCharts™ will cease. NOAA is seeking feedback from chart users and companies that provide products and services based on NOAA raster and electronic navigational chart (NOAA ENC®) products. This information will shape the manner and timing in which the product sunsetting process will proceed. More detailed information regarding this transition is available from https://nauticalcharts.noaa.gov/publications/docs/raster-sunset.pdf.

DATES: Comments are due by midnight, February 1, 2020.

ADDRESSES: Submit comments on the Sunsetting of Raster Nautical Charts through NOAA's ASSIST feedback tool at https://nauticalcharts.noaa.gov/customer-service/assist, or via mail to National Ocean Service, NOAA (NCS2), ATTN Sunset of Raster Charts, 1315 East-West Highway, Silver Spring, MD 20910-3282.

SUPPLEMENTARY INFORMATION: The Coast and Geodetic Survey Act of 1947 and the Hydrographic Services Improvement Act requires that NOAA compile and distribute nautical charts and other nautical publications. These statutes do not specify a particular format for chart products. NOAA and its predecessor agencies have produced paper nautical charts of the U.S. Coasts, its territorial waters, and the Great Lakes since the mid-1800s. NOAA has produced electronic navigational charts (ENCs) since 1993.

The International Maritime Organization now mandates that all large commercial vessels on international voyages use ENCs. In 2016, the USCG started allowing regulated commercial vessels on domestic voyages to use ENCs in lieu of paper charts. Recreational boaters are also increasingly using electronic chart displays.

Use of NOAA ENCs surpassed paper nautical charts in 2011. ENC sales increased 425% since 2008, while sales of paper charts are now half of 2008 levels. The current NOAA nautical chart product suites comprise 1,258 electronic navigational charts (NOAA ENC®) and 1,007 NOAA raster/paper nautical charts. NOAA has started a multi-year program to create a standard gridded layout and increase the scale of ENCs. This will increase the number of detailed NOAA ENCs to about 9,000.

NOAA is undertaking a five-year program to end all raster and paper nautical chart production. Ultimately, production of all NOAA paper nautical charts, raster navigational charts (NOAA RNC®), and related products, such as BookletCharts™ will cease.

NOAA is taking steps to provide a NOAA Custom Chart web-based application that will enable users to download and print raster chart backup files created from the most up-to-date ENC data. The NOAA Custom Chart prototype is available from https://devgis.charttools.noaa.gov/pod. These chart backup files will look somewhat different than traditional paper nautical charts, but will provide a similar functionality.

NOAA seeks comments from the public regarding the raster and paper chart product sunset transition and is particularly interested in:

• suggestions for improving the NOAA Custom Chart web application, and

• understanding other non-navigational uses for paper or raster nautical charts.

Richard Brennan,
Acting Director, Office of Coast Survey, National Ocean Service, National Oceanic and Atmospheric Administration.

[FR Doc. 2019-24807 Filed 11-14-19; 8:45 am]

BILLING CODE 3510-JE-P